DEPARTMENT OF TRANSPORTATION

Federal Aviation Administration

14 CFR Part 39

[Docket No. FAA-2013-0480; Directorate Identifier 2012-SW-090-AD; Amendment 39-17589; AD 2013-19-07]

RIN 2120-AA64

Airworthiness Directives; Eurocopter France (Eurocopter) Helicopters

AGENCY: Federal Aviation Administration (FAA), DOT.

ACTION: Final rule.

SUMMARY: We are adopting a new airworthiness directive (AD) for Eurocopter Model SA-365N, SA-365N1, AS-365N2, AS 365 N3, EC 155B, EC155B1, AS332C, AS332L, AS332L1, AS332L2, and EC225LP helicopters with certain EADS Sogerma pilot and co-pilot seats installed. This AD requires inspecting the rear beam of each seat to determine if all of the weld beads are present and replacing the seat if any weld bead is missing. This AD is prompted by a maintenance inspection that discovered a missing weld bead on the rear beam of a pilot seat. These actions are intended to prevent failure of the pilot and co-pilot seats and subsequent injury to the pilot or co-pilot.

DATES: This AD is effective November 6, 2013.

The Director of the Federal Register approved the incorporation by reference of certain documents listed in this AD as of November 6, 2013.

ADDRESSES: For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, FAA, 2601 Meacham Blvd., Fort Worth, Texas 76137; telephone 817-222-5110; email robert.grant@faa.gov.

SUPPLEMENTARY INFORMATION:

Discussion

On June 5, 2013, at 78 FR 33766, the Federal Register published our notice of proposed rulemaking (NPRM), which proposed to amend 14 CFR part 39 by adding an AD that would apply to Eurocopter Model SA-365N, SA-365N1, AS-365N2, AS 365 N3, EC 155B, EC155B1, AS332C, AS332L, AS332L1, AS332L2, and EC225LP helicopters with an EADS Sogerma pilot or co-pilot seat, part number (P/N) 2510106-03-00 or P/N 2510106-06-00, with a serial number 720 through 1451, installed. The NPRM proposed to require, within 50 hours time-in-service (TIS), inspecting the rear beam of each pilot and co-pilot seat to determine if any weld beads are missing. If any weld beads are missing, before further flight, the NPRM proposed removing the seat from the helicopter and replacing it with an airworthy seat. The proposed requirements were intended to prevent failure of the pilot and co-pilot seats and subsequent injury to the pilot or co-pilot.

The NPRM was prompted by AD No. 2012-0206, dated October 2, 2012 (AD 2012-0206), issued by EASA, which is the Technical Agent for the Member States of the European Union. EASA advised that during a maintenance inspection, a weld bead was found missing on the rear beam of an EADS Sogerma pilot seat. According to EASA, this non-conformity impairs the seat anti-crash function and may be present on a limited number of seats installed on Eurocopter helicopters. EASA states that this condition, if not corrected, could lead to pilot injury following a hard landing following an emergency.

To address this unsafe condition, EASA issued AD No. 2012-0084, dated May 16, 2012 (AD 2012-0084), to require inspecting the flight crew seats, replacing any improperly welded seat, and marking all correctly welded seats. After issuing AD 2012-0084, a missing weld bead was discovered on another part of the seat rear beam that was not required to be inspected. As a result, EASA issued AD 2012-0206, which superseded AD 2012-0084, to revise the inspection procedure and add new areas of the rear beam of the seat to be inspected.

Comments

We gave the public the opportunity to participate in developing this AD, but we did not receive any comments on the NPRM (78 FR 33766, June 5, 2013).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD allows compliance within 3 months or 50 flight hours, whichever occurs earlier; this AD requires compliance within 50 hours TIS. The EASA AD applies to Model AS332C1 helicopters. This AD does not because this model is not FAA type-certificated.

Related Service Information

Eurocopter has issued Alert Service Bulletin (ASB) No. AS365-25.01.18 for Model SA-365N, SA-365 N1, AS-365N2, and AS 365 N3 helicopters; ASB No. EC155-25A114 for Model EC155 B and EC155B1 helicopters; ASB No. AS332-25.02.49 for model AS332C, AS332L, AS332L1, and AS332L2 helicopters; and ASB No. EC225-25A110 for Model EC225LP helicopters; all Revision 1, dated August 9, 2012. The ASBs incorporate the procedures in EADS Sogerma Inspection Service Bulletin No. 2510106-25-888, Revision 1, dated July 16, 2012, for inspecting the rear beam of the pilot and co-pilot seats to verify all of the weld beads are present. The complete EADS Sogerma bulletin is contained in the Appendix of the ASBs. EASA classified these ASBs as mandatory and issued AD 2012-0206 to ensure the continued airworthiness of these helicopters.

Costs of Compliance

We estimate that this AD will affect 65 helicopters of U.S. Registry. We estimate that operators may incur the following costs in order to comply with this AD. At an average labor rate of $85 per hour, inspecting the seats will require about .2 work-hour, for a cost per helicopter of $17 and a total cost to U.S. operators of $1,105. Replacing a seat with a missing weld bead will require about 1 work-hour, and required parts will cost about $30,251, for a cost per helicopter of $30,336.

According to Eurocopter's service information some of the costs of this AD may be covered under warranty, thereby reducing the cost impact on affected individuals. We do not control warranty coverage by Eurocopter. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-19-07 Eurocopter France (Eurocopter): Amendment 39-17589; Docket No. FAA-2013-0480; Directorate Identifier 2012-SW-090-AD.

(a) Applicability

This AD applies to Eurocopter Model SA-365N, SA-365N1, AS-365N2, AS 365 N3, EC 155B, EC155B1, AS332C, AS332L, AS332L1, AS332L2, and EC225LP helicopters with an EADS Sogerma pilot or co-pilot seat, part number (P/N) 2510106-03-00 or P/N 2510106-06-00, with a serial number 720 through 1451, installed, certificated in any category.

(b) Unsafe Condition

This AD defines the unsafe condition as a missing weld on a seat rear beam, which could result in failure of the seat and injury to the pilot during a hard landing.

(c) Effective Date

This AD becomes effective November 6, 2013.

(d) Compliance

You are responsible for performing each action required by this AD within the specified compliance time unless it has already been accomplished prior to that time.

(e) Required Actions

(1) Within 50 hours time-in-service, using a mirror, inspect the rear beam of each seat for weld beads in the areas depicted in the Appendix, Figure 1, of Eurocopter Alert Service Bulletin (ASB) No. AS365-25.01.18 for model SA-365N, SA-365N1, AS-365N2, and AS 365 N3 helicopters; ASB No. EC155-25A114 for model EC155 B and EC155B1 helicopters; ASB No. AS332-25.02.49 for model AS332C, AS332L, AS332L1, and AS332 L2 helicopters; and ASB No. EC225-25A110 for model EC225LP helicopters. All ASBs are Revision 1 and dated August 9, 2012.

(2) If any weld bead is missing from the rear beam, before further flight, remove the seat and replace it with an airworthy seat.

(3) Do not install a seat listed in paragraph (a) of this AD on any helicopter unless it has been inspected as required by this AD.

(f) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone 817-222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2012-0206, dated October 2, 2012. You may view the EASA AD on the internet in the AD Docket at http://www.regulations.gov.

(h) Subject

Joint Aircraft Service Component (JASC) Code: 2510: Flight Compartment Equipment.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter ASB No. AS365-25.01.18, Revision 1, dated August 9, 2012.

(ii) Eurocopter ASB No. AS332-25.02.49 Revision 1, dated August 9, 2012.

(iii) Eurocopter ASB No. EC155-25A114, Revision 1, dated August 9, 2012.

(iv) Eurocopter ASB No. EC225-25A110 Revision 1, dated August 9, 2012.

(3) For Eurocopter service information identified in this AD, contact American Eurocopter Corporation, 2701 N. Forum Drive, Grand Prairie, TX 75052; telephone (972) 641-0000 or (800) 232-0323; fax (972) 641-3775; or at http://www.eurocopter.com/techpub.

(4) You may view this service information that is incorporated by reference at the FAA, Office of the Regional Counsel, Southwest Region, 2601 Meacham Blvd., Room 663, Fort Worth, Texas 76137.

(5) You may also view this service information that is incorporated by reference at the National Archives and Records Administration (NARA). For information on the availability of this material at NARA, call (202) 741-6030, or go to: http://www.archives.gov/federal-register/cfr/ibr-locations.html.

Issued in Fort Worth, Texas, on September 13, 2013.
Lance T. Gant,
Acting Directorate Manager, Rotorcraft Directorate, Aircraft Certification Service.

[FR Doc. 2013-23092 Filed 10-1-13; 8:45 am]

BILLING CODE 4910-13-P